DEPARTMENT OF HOMELAND SECURITY

Coast Guard

33 CFR Parts 101, 104, 105, 120, and 128

[Docket No. USCG-2006-23846]

RIN 1625-AB30

Consolidated Cruise Ship Security Regulations

AGENCY: Coast Guard, DHS.

ACTION: Notice of public meeting.

SUMMARY: The Coast Guard announces a public meeting will take place on February 9, 2015, in Fort Lauderdale, Florida to receive comments on a notice of proposed rulemaking (NPRM) published in the Federal Register on December 10, 2014, under the title “Consolidated Cruise Ship Security Regulations.” This proposed rule would amend Coast Guard regulations on cruise ship terminal security by implementing amendments that provide detailed, flexible requirements for the screening of all baggage, personal items, and persons—including passengers, crew, and visitors—intended for carriage on a cruise ship. The proposed regulations would standardize the security requirements of cruise ship terminals and would eliminate redundancies in current regulations that govern the security of cruise ship terminals.

DATES: The meeting will be held on February 9, 2015, from 1:00 p.m. until 5:00 p.m. The meeting may conclude before the allotted time if all matters for discussion have been addressed and there are no additional comments from the public. Comments and related material must be received by the Coast Guard or the docket management facility on or before March 10, 2015.

ADDRESSES: The meeting will be held at Port Everglades Cruise Terminal 19, First Floor, 2019 Eller Drive, Hollywood, FL 33316. Parking is adjacent to the meeting building. Please be prepared to present photo identification at the Port's main security gate. Directions are available on the Port Everglades Web site at http://www.porteverglades.net/.

You may submit written comments to the docket using any one of the methods described below:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. All comments and related material submitted after the meeting must either be submitted to the online docket on or before March 10, 2015, or reach the Docket Management Facility by that date.

FOR FURTHER INFORMATION CONTACT: If you have questions concerning the meeting or the proposed rule, please call or email LT Mason Wilcox, Inspections and Compliance Directorate, Office of Port and Facility Compliance, Cargo and Facilities Division (CG-FAC-2), Coast Guard, telephone (202) 372-1123, email Mason.C.Wilcox@uscg.mil. If you have questions on viewing or submitting material to the docket, call Ms. Cheryl Collins, Program Manager, Docket Operations, telephone 202-366-9826.

SUPPLEMENTARY INFORMATION:

Background and Purpose

On December 10, 2014, the Coast Guard published an NPRM in the Federal Register (79 FR 73255) entitled “Consolidated Cruise Ship Security Regulations.” The Coast Guard proposes to amend the maritime security regulations, found in Title 33 of the Code of Federal Regulations (33 CFR) subchapter H (parts 101 through 107), to require terminal screening programs in existing facility security plans at cruise ship terminals within the United States and its territories. This proposed rule would standardize screening activities for all persons, baggage, and personal effects at cruise ship terminals while also allowing for an appropriate degree of flexibility that accommodates and is consistent with different terminal sizes and operations. This flexible standardization would ensure a consistent layer of security at terminals throughout the United States. The proposed rule would build upon existing facility security requirements in 33 CFR part 105, which implements the Maritime Transportation Security Act, Public Law 107-295, 116 Stat. 2064 (November 25, 2002), codified at 46 U.S.C. Chapter 701. The Coast Guard consulted the Transportation Security Administration during the development of the proposed rule.

The Coast Guard also proposes to remove 33 CFR parts 120 and 128 because provisions in those parts requiring security officers and security plans or programs for cruise ships and cruise ship terminals would be redundant with the provisions in 33 CFR subchapter H. Section 120.220, concerning the reporting of unlawful acts, would also be removed because it is obsolete and existing law enforcement protocols require members of the Cruise Lines International Association (CLIA) to report incidents involving serious violations of U.S. law to the nearest Federal Bureau of Investigation field office as soon as possible. The Coast Guard will consider issuing additional regulations on this subject in a separate rulemaking pursuant to the Cruise Vessel Security and Safety Act of 2010 (CVSSA), Public Law 111-207 (July 27, 2010) (See RIN 1625-AB91).

This proposed rule does not address the screening of vessel stores, bunkers, or cargo. Similarly, it does not affect what items may be brought onto a cruise ship by the cruise ship operator, including items that passengers may check for secure storage with the cruise operator outside of their baggage or carry-ons. Requirements for security measures for the delivery of vessel stores, bunkers, and cargo are set forth in 33 CFR 104.275, 104.280, 105.265, and 105.270.

This proposed rule also does not include regulations that may be required pursuant to the CVSSA. Although this rule and the CVSSA are both concerned with cruise ship security generally, this rule consolidates and updates pre-boarding screening requirements while the CVSSA prescribes requirements in other areas, such as cruise ship design, providing information to passengers, maintaining medications and medical staff on board, reporting crime, crew access to passenger staterooms, and crime scene preservation training. Delaying promulgation of this proposed rule while the regulations required by the CVSSA are developed, for the sole purpose of publishing all of these regulations together, would unnecessarily deprive the public of the benefit of improved cruise ship screening regulations during that period.

You may view the NPRM, and public comments submitted thus far, in the online docket by going to the Federal eRulemaking Portal at http://www.regulations.gov. Once there, search for docket number USCG-2006-23846, and then click “Open Docket Folder.” If you do not have access to the internet, you may view the docket online by visiting the Docket Management Facility in Room W12-140 on the ground floor of the DOT West Building, 1200 New Jersey Avenue SE., Washington, DC 20590, between 9 a.m. and 5 p.m., Monday through Friday, except Federal holidays. We have an agreement with the Department of Transportation to use the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact LT Mason Wilcox at the telephone number or email address indicated under the FOR FURTHER INFORMATION CONTACT section of this document.

Meeting Details

Members of the public may attend this meeting up to the seating capacity of the room. We plan to record the meeting using an audio-digital recorder. The audio recording will be available through a link in our online docket.

Valid government-issued photo identification (for example, a driver's license) will be required for entrance to Port Everglades and the meeting space. To facilitate the building security process, and to request reasonable accommodation, those who plan to attend should contact the meeting coordinator, LT Mason Wilcox, at least 7 days prior to the meeting by using the contact information in the FOR FURTHER INFORMATION CONTACT section of this document. Requests made after January 30, 2015, might not be able to be accommodated.

We encourage you to participate in this meeting by commenting orally, or submitting written comments to the Coast Guard personnel attending the meeting who are identified to receive them. These comments will be posted to the online docket and will include any personal information you have provided.

Submitting Other Written Comments

You may also submit written comments to the docket before or after the meeting using any one of the methods described in the ADDRESSES section of this document.

Dated: January 12, 2015.
J.C. Burton,
Captain, U.S. Coast Guard, Director of Inspections and Compliance.

[FR Doc. 2015-00772 Filed 1-20-15; 8:45 am]

BILLING CODE 9110-04-P